ENVIRONMENTAL PROTECTION AGENCY

[FRL-11669-01-OA]

Farm, Ranch, and Rural Communities Advisory Committee (FRRCC); Notice of Public Meeting

AGENCY: Environmental Protection Agency (EPA).

ACTION: Notice of meeting.

SUMMARY: Pursuant to the Federal Advisory Committee Act (FACA), notice is hereby given that the next meeting of the Farm, Ranch, and Rural Communities Advisory Committee (FRRCC) will be held in-person and virtually January 30-31, 2024. The FRRCC provides independent policy advice, information, and recommendations to the Administrator on a range of environmental issues and policies that are of importance to agriculture and rural communities.

DATES: This meeting will be held in-person and virtually Tuesday, January 30, 2024-Wednesday, January 31, 2024, from approximately 8:00 a.m. until 5:00 p.m. (MST).

This meeting will take place in-person and virtually. To register and receive information on how to listen to the meeting and to provide comments, please visit: www.epa.gov/faca/frrcc. Attendees must register online to receive instructions for virtual attendance.

ADDRESSES: The meeting will be held at 330 E Palace Avenue, Santa Fe, NM 87501.

Virtual Attendance: Virtual attendance will be via Zoom. The link to register for the meeting can be found on the FRRCC web page: www.epa.gov/faca/frrcc.

FOR FURTHER INFORMATION CONTACT: Venus Welch-White, Designated Federal Officer (DFO), at FRRCC@epa.gov or 202-566-2369. General information regarding the FRRCC can be found on the EPA website at: www.epa.gov/faca/frrcc.

SUPPLEMENTARY INFORMATION: Meetings of the FRRCC are open to the public. An agenda will be posted at www.epa.gov/faca/frrcc.

Access and Accommodations: For information on access or services for individuals with disabilities, please visit: www.epa.gov/faca/frrcc.

Due to unforeseen administrative circumstances, EPA is announcing this meeting with less than 15 calendar days public notice.

Rodney Snyder,
Senior Advisor for Agriculture, U.S. EPA.

[FR Doc. 2024-00960 Filed 1-18-24; 8:45 am]

BILLING CODE 6560-50-P